DEPARTMENT OF ENERGY

Federal Energy Regulatory Commission

[Docket No. CP06-424-000]

Southern Star Central Gas Pipeline, Inc.; Notice of Request Under Blanket Authorization

July 25, 2006.

Take notice that on July 19, 2006, Southern Star Central Gas Pipeline, Inc. (Southern Star), 4700 Highway 56, Owensboro, Kentucky 42301, filed in Docket No. CP06-424-000, a request pursuant to sections 157.205 and 157.208 of the Commission's Regulations under the Natural Gas Act (18 CFR 157.205 and 157.208) for authorization to replace certain facilities and upon replacement, increase the maximum allowable operating pressure (MAOP) in the State of Kansas, under Southern Star's blanket certificate issued in Docket No. CP82-479-000 pursuant to section 7(c) of the Natural Gas Act, all as more fully set forth in the application which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Southern Star proposes to replace approximately 7.25 miles of 12-inch diameter pipeline with 10-inch pipe, a part of the Pittsburg Delivery Lateral or Line FD, located in Cherokee County, Kansas, and upon replacement, increase the MAOP from 260 psig to 720 psig, as described more fully in the request. Southern Star proposes to replace the entire 17.2 miles of pipe with 10-inch diameter pipeline in two phases over a two-year period. Southern Star states that the replacement project will include the installation of a pig launcher, which will allow for future cleaning and integrity testing of the lateral, when Phase II is completed with an associated pig launcher installed. Southern Star estimates the cost of the replacement project to be approximately $3,300,000.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Any questions regarding this application should be directed to David N. Roberts, Manager, Regulatory Affairs, Southern Star Central Gas Pipeline, Inc., 4700 Highway 56, Owensboro, Kentucky 42301, or call (270) 852-4654 or fax (270) 852-5010.

The Commission strongly encourages electronic filings of comments, protests, and interventions via the Internet in lieu of paper. See 18 CFR 385.2001(a)(1)(iii) and the instructions on the Commission's Web site (http://www.ferc.gov) under the “e-Filing” link.

Magalie R. Salas,
Secretary.

[FR Doc. E6-12392 Filed 8-1-06; 8:45 am]

BILLING CODE 6717-01-P